FARM CREDIT ADMINISTRATION

Draft Strategic Plan for Fiscal Years 2004-2009

AGENCY: Farm Credit Administration.

ACTION: Notice of availability; request for comment.

SUMMARY: This notice announces the availability of the Farm Credit Administration's (FCA or agency) Draft Strategic Plan for Fiscal Years 2004-2009. The Government Performance and Results Act of 1993 requires that Federal agencies update their strategic plans at least every 3 years and, in doing so, solicit the views and suggestions of those entities potentially affected by or interested in the plan. Therefore, the agency is interested in receiving comments on our draft strategic plan.

DATES: Comments must be submitted by November 20, 2003.

ADDRESSES: The draft strategic plan is available on the agency's Web site at http://www.fca.gov. You can provide your comments to us electronically via e-mail at info-line@fca.gov. You can also send written comments or requests for a hard copy of the plan to the Farm Credit Administration, Office of the Chief Operating Officer, Attention: Strategic Plan Coordinator, 1501 Farm Credit Drive, McLean, Virginia 22102-5090 or by facsimile to (703) 790-5241.

FOR FURTHER INFORMATION CONTACT: Jeff Walker, Executive Assistant, Office of the Chief Operating Officer, Farm Credit Administration, McLean, VA 22102-5090, (703) 883-4271; TTY (703) 883-4056.

SUPPLEMENTARY INFORMATION: The Farm Credit Administration (FCA or agency) is charged by Congress, as established in title V of the Farm Credit Act of 1971, as amended, with the mandate of overseeing the agricultural Government-sponsored enterprises (GSEs) serving rural America. These include the Farm Credit System (System) and the Federal Agricultural Mortgage Corporation. FCA also has statutory responsibility to examine the National Consumer Cooperative Bank, a non-System entity operating as a federally chartered, privately owned banking corporation.

The Government Performance and Results Act of 1993 (GPRA) requires that each Federal agency establish a strategic plan that covers a period of not less than 5 years. It also mandates that these plans be updated and revised at least every 3 years. In accordance with GPRA, FCA issued its first strategic plan in 1997. A revised plan was approved in 2000. Thus, the Draft Strategic Plan for Fiscal Years 2004-2009 represents the second update to the agency's original strategic plan completed under GPRA. The draft strategic plan describes our mission, our strategic goals, and strategies to achieve those goals over the next 5 years.

The Draft Strategic Plan for Fiscal Years 2004-2009 is the culmination of an extensive outreach effort. The FCA Board began its work on this plan in April 2003 by initiating a series of strategic planning sessions to seek input from farmers, the Farm Credit Council and other Farm Credit System representatives, academics and economists, the American Bankers Association, the Independent Community Bankers of America, former FCA Board chairmen and FCA senior management. Subsequent planning sessions held by the Board and the Office of the Chief Operating Officer over the next several months were used to establish specific direction for formulation of the current draft. Senior management provided input throughout the drafting phase.

Having formulated a draft strategic plan, at this point FCA wants to return our product to our external public for review. We anticipate posting the final strategic plan on the Internet in December 2003.

Dated: October 16, 2003.
Jeanette C. Brinkley,
Secretary, Farm Credit Administration Board.

[FR Doc. 03-26497 Filed 10-20-03; 8:45 am]

BILLING CODE 6705-01-P